DEPARTMENT OF ENERGY

Federal Energy Regulatory Commission

[Docket No. CP15-520-000]

Tennessee Gas Pipeline Company, L.L.C; Notice of Schedule for Environmental Review of the Triad Expansion Project

On June 19, 2015, Tennessee Gas Pipeline Company, L.L.C. (Tennessee) filed an application in Docket No. CP15-520-000 requesting authorization pursuant to Section 7(c) of the Natural Gas Act to construct and operate certain natural gas pipeline facilities. The proposed project is known as the Triad Expansion Project (Project), and would deliver an additional 180,000 dekatherms per day of natural gas to meet the needs of a new natural gas-fired power plant to be constructed in Lackawanna County, Pennsylvania.

On July 6, 2015, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA April 6, 2016

90-day Federal Authorization Decision Deadline July 5, 2016

If a schedule change becomes necessary, additional notice will be provided so that the relevant agencies are kept informed of the Project's progress.

Project Description

Tennessee would construct about 7.0 miles of new 36-inch-diameter looping ¹ pipeline adjacent to its existing 300 Line system in Susquehanna County, Pennsylvania; a new internal pipeline inspection (pig) ² launcher, crossover, and connecting facilities at the beginning of the proposed pipeline loop; and a new pig receiver, a new odorant facility, and ancillary piping at the existing Compressor Station 321 in Susquehanna County, Pennsylvania.

¹ A pipeline loop is a segment of pipe constructed parallel to an existing pipeline to increase capacity.

² A “pig” is a tool that the pipeline company inserts into and pushes through the pipeline for cleaning the pipeline, conducting internal inspections, or other purposes.

Background

On August 5, 2015, the Commission issued a Notice of Intent to Prepare an Environmental Assessment for the Proposed Triad Expansion Project and Request for Comments on Environmental Issues (NOI). The NOI was sent to affected landowners; federal, state, and local government agencies; elected officials; environmental and public interest groups; Native American tribes; other interested parties; and local libraries and newspapers. In response to the NOI, the Commission received comments from the United States Army Corps of Engineers; Pennsylvania Department of Conservation and Natural Resources; the Stockbridge-Munsee Tribal Historic Preservation Office; the Allegheny Defense Project; and one individual. The primary issues raised during scoping relate to impacts on soils, wetlands, waterbodies, vegetation, and wildlife; recreation and impacts on cultural resources; reliability and safety concerns; and review of project alternatives.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's

Office of External Affairs at (866) 208-FERC or on the FERC Web site (www.ferc.gov). Using the “eLibrary” link, select “General Search” from the eLibrary menu, enter the selected date range and “Docket Number” excluding the last three digits (i.e., CP15-520), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: December 9, 2015.
Nathaniel J. Davis, Sr.,
Deputy Secretary.

[FR Doc. 2015-31467 Filed 12-14-15; 8:45 am]

BILLING CODE 6717-01-P